DEPARTMENT OF LABOR

Employment and Training Administration

[NAFTA—4464]

OEM/Erie Westland L.L.C.; Notice of Termination of Investigation

Pursuant to Title V of the North American Free Trade Agreement Implementation Act and in accordance with section 250(a), subchapter D, chapter 2, Title II of the Trade Act of 1974, as amended (19 U.S.C. 2331), an investigation was initiated on January 19, 2001, in response to a worker petition which was filed on behalf of its workers at OEM/Erie Westland L.L.C., Westland, Michigan. The workers produced plastic automotive interior parts.

This case is being terminated because the Department was unable to locate an official of the company to obtain the information necessary to conduct the investigation. Consequently, further investigation in this case would serve no purpose, and the investigation has been terminated.

Signed at Washington, DC, this 31st day of May, 2001.
Linda G. Poole,
Certifying Officer, Division of Trade Adjustment Assistance.

[FR Doc. 01-15037 Filed 6-13-01; 8:45 am]

BILLING CODE 4510-30-M